ENVIRONMENTAL PROTECTION AGENCY

[FRL-8945-9]

Proposed Amendment to Administrative Order on Consent, Index No. CERCLA-02-2001-2020, Containing a Covenant Not To Sue Under CERCLA Section 122(h), Shenandoah Road Groundwater Contamination Superfund Site, East Fishkill, New York

AGENCY: Environmental Protection Agency.

ACTION: Notice; request for public comment.

SUMMARY: In accordance with Section 122(i) of the Comprehensive Environmental Response, Compensation, and Liability Act of 1980, as amended (“CERCLA”), 42 U.S.C. 9622(i), notice is hereby given of a proposed settlement embodied in an amendment to an Administrative Order on Consent, Index No. CERCLA-02-2001-2020 (“Order”). The Order was issued to the International Business Machines Corporation (“IBM”) in connection with the Shenandoah Road Groundwater Contamination Superfund Site, East Fishkill, Dutchess County, New York (“Site”). The amendment to the Order was signed by the U.S. Environmental Protection Agency (“EPA” or the “Agency”) on June 15, 2009, and contains a covenant not to sue under Section 122(h) of CERCLA, 42 U.S.C. 9622(h). Under the proposed amendment, EPA is covenanting not to sue IBM for $50,000 of response costs, conditioned upon IBM's assistance to the Town of East Fishkill in acquiring waterline easements to properties at the Site, and upon IBM's performance of its obligations under the Order, including construction of an alternate water supply. For thirty (30) days following the date of publication of this notice, EPA will receive written comments relating to the amendment. EPA will consider all comments received and may modify or withdraw its consent to the covenant not to sue if comments received disclose facts or considerations that indicate that the proposed covenant not to sue is inappropriate, improper, or inadequate. The Agency's response to any comments received will be available for public inspection at EPA, Region 2, 290 Broadway, New York, New York 10007-1866.

DATES: Comments must be submitted on or before September 14, 2009.

ADDRESSES: The amendment is available for public inspection at the United States Environmental Protection Agency, 290 Broadway, New York, New York 10007-1866. Comments should reference the Shenandoah Road Groundwater Contamination Superfund Site, East Fishkill, Dutchess County, New York, Index No. CERCLA-02-2001-2020. To request a copy of the amendment, please contact the individual identified below.

FOR FURTHER INFORMATION CONTACT: Carol Y. Berns, Assistant Regional Counsel, New York/Caribbean Superfund Branch, Office of Regional Counsel, U.S. Environmental Protection Agency, 17th Floor, 290 Broadway, New York, New York 10007-1866. Telephone: 212-637-3177.

Dated: July 31, 2009.
John S. Frisco,
Acting Director, Emergency and Remedial Response Division, EPA, Region 2.

[FR Doc. E9-19536 Filed 8-13-09; 8:45 am]

BILLING CODE 6560-50-P